DEPARTMENT OF DEFENSE

Defense Acquisition Regulations System

48 CFR Parts 203, 209, and 252

RIN 0750-AG07

Defense Federal Acquisition Regulation Supplement; Senior DoD Officials Seeking Employment With Defense Contractors (DFARS Case 2008-D007)

AGENCY: Defense Acquisition Regulations System, Department of Defense (DoD).

ACTION: Final rule.

SUMMARY: DoD has adopted as final, without change, an interim rule amending the Defense Federal Acquisition Regulation Supplement (DFARS) to implement section 847 of the National Defense Authorization Act for Fiscal Year 2008. Section 847 addresses requirements for senior DoD officials to obtain a post-employment ethics opinion before accepting compensation from a DoD contractor within two years after leaving DoD service.

DATES: Effective Date: November 19, 2009.

FOR FURTHER INFORMATION CONTACT: Ms. Amy Williams, Defense Acquisition Regulations System, OUSD (AT&L) DPAP (DARS), IMD 3D139, 3062 Defense Pentagon, Washington, DC 20301-3062. Telephone 703-602-0328; facsimile 703-602-7887. Please cite DFARS Case 2008-D007.

SUPPLEMENTARY INFORMATION:

A. Background

DoD published an interim rule at 74 FR 2408 on January 15, 2009, to implement section 847 of the National Defense Authorization Act for Fiscal Year 2008 (Pub. L. 110-181). Section 847 requires that a DoD official, who has participated personally and substantially in a DoD acquisition exceeding $10 million or who has held a key acquisition position, must request a written opinion from a DoD ethics counselor before accepting compensation from a DoD contractor within two years after leaving DoD service. In addition, section 847 prohibits a DoD contractor from providing compensation to such a DoD official without first determining that the official has received or appropriately requested a post-employment ethics opinion.

One source submitted comments on the interim rule. That source supported the rule and its objectives, but recommended that the central database/repository for retention of written ethics opinions, required by section 847(b), be made publicly available. DoD has not adopted this recommendation, as section 847 does not authorize access to the database by the general public.

This rule was subject to Office of Management and Budget review under Executive Order 12866, dated September 30, 1993.

B. Regulatory Flexibility Act

DoD certifies that this final rule will not have a significant economic impact on a substantial number of small entities within the meaning of the Regulatory Flexibility Act, 5 U.S.C. 601, et seq., because the requirement to verify that a prospective employee has received or requested the appropriate DoD ethics opinion should involve minimal effort on the part of a contractor.

C. Paperwork Reduction Act

The Paperwork Reduction Act does not apply, because the rule does not impose any information collection requirements that require the approval of the Office of Management and Budget under 44 U.S.C. 3501, et seq.

List of Subjects in 48 CFR Parts 203, 209, and 252

Government procurement.

Amy G. Williams,
Editor, Defense Acquisition Regulations System.

Accordingly, the interim rule amending 48 CFR parts 203, 209, and 252, which was published at 74 FR 2408 on January 15, 2009, is adopted as a final rule without change.

[FR Doc. E9-27849 Filed 11-18-09; 8:45 am]

BILLING CODE 5001-08-P